DEPARTMENT OF TRANSPORTATION

Federal Aviation Administration

[Docket No: FAA-2020-0047]

Deadlines for Notice of Intent and Submission of Final Grant Application for Airport Improvement Program Primary, Cargo, and Nonprimary Entitlement Funds Available to Date for Fiscal Year 2020

AGENCY: Federal Aviation Administration, Department of Transportation.

ACTION: Notice.

SUMMARY: This action announces the extension to May 4, 2020, and to Monday, June 15, 2020, respectively, of the deadlines for an airport sponsor to give notice of intent to use Fiscal Year (FY) 2020 Airport Improvement Program (AIP) entitlement funds and to submit a final grant application.

FOR FURTHER INFORMATION CONTACT: Dave Cushing, Manager, Airports Financial Assistance Division, APP-500, at (202) 267-8827.

SUPPLEMENTARY INFORMATION: On January 28, 2020, the FAA announced April 1, 2020, as the deadline for an airport sponsor to notify the FAA if it would use its FY 2020 AIP entitlement funds, and May 18, 2020, as the deadline for an airport sponsor to submit a final FY 2020 grant application (85 FR 5065). That notice applied only to those airports that have entitlement funds apportioned to them, except those nonprimary airports located in designated Block Grant States. Since that time, the COVID-19 public health emergency has impacted airport sponsors' operations and ability to meet these deadlines.

49 U.S.C. 47105(f) provides that the sponsor of an airport for which entitlement funds are apportioned shall notify the Secretary of Transportation, by such time and in a form as prescribed by the Secretary, of the airport sponsor's intent to submit a grant application for its available entitlement funds. This notification ensures that the FAA has sufficient time to carry over and convert remaining entitlement funds.

Although the April 1 deadline has passed, the FAA will continue to accept notification of an airport sponsor's intent to submit a grant application until 12:00 p.m. prevailing local time on Monday, May 4, 2020.

This notification must be in writing and address all entitlement funds available to date for FY 2020, including those entitlement funds not obligated from prior years. These notifications are critical to ensure efficient planning and administration of the AIP.

The FAA also is extending the final grant application deadline until Monday, June 15, 2020. The final grant application funding requests are to be based on bids, not estimates.

An airport sponsor must provide its notification and grant applications to its designated FAA Airports District Office (or Regional Office in regions without Airports District Offices). Absent notification of the intent to submit a grant application, or submission of a grant application by the relevant deadlines noted above, the FAA will carry over the remainder of available entitlement funds on Monday, June 29, 2020. These funds will not be available again until at least the beginning of FY 2021. Dates are subject to possible adjustment based on future legislation. As of the publication of this notice, appropriations for the FAA expire on September 30, 2020, and statutory authorization for the FAA expires on September 30, 2023.

The FAA has determined these deadlines address the unanticipated impacts of the COVID-19 public health emergency while still facilitating the FY 2020 grant-making process.

Issued in Washington, DC, on April 17, 2020.
Robert J. Craven,
Director, Office of Airport Planning and Programming.

[FR Doc. 2020-08587 Filed 4-22-20; 8:45 am]

BILLING CODE 4910-13-P